DEPARTMENT OF TRANSPORTATION

Federal Aviation Administration

[Docket No. FAA-2025-3090]

Agency Information Collection Activities: Requests for Comments; Clearance of a Renewed Approval of Information Collection: Employee Assault Prevention and Response Plan

AGENCY: Federal Aviation Administration (FAA), DOT.

ACTION: Notice and request for comments.

SUMMARY: In accordance with the Paperwork Reduction Act of 1995, FAA invites public comments about our intention to request the Office of Management and Budget (OMB) approval to renew an information collection. The collection involves submission of Employee Assault Prevention and Response Plans (EAPRP), for customer service agents of certificate holders conducting operations. The certificate holders will submit the information to be collected to the FAA for review and acceptance as required by the FAA Reauthorization Act of 2018 and 2024.

DATES: Written comments should be submitted by March 30, 2026.

ADDRESSES: Please send written comments:

By electronic docket: www.regulations.gov (Enter docket number into search field.)

By mail: Shannon Salinsky, 8700 Freeport Parkway, Suite 200, Irving, TX 75063.

By fax: 817-222-2222.

FOR FURTHER INFORMATION CONTACT: Shannon Salinsky by email at: Shannon.Salinsky@faa.gov; phone: 214-277-8499.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0787.

Title: Employee Assault Prevention and Response Plan.

Form Numbers: There are no forms associated with this collection.

Type of Review: Renewal of an information collection.

Background: On October 5, 2018, Congress enacted Public Law 115-254, the FAA Reauthorization Act of 2018 (“the Act”). Section 551 of the Act required air carriers operating under Title 14 CFR part 121 to submit to the FAA for review and acceptance an Employee Assault Prevention and Response Plan (EAPRP) related to the customer service agents of the air carrier that is developed in consultation with the labor union representing such agents. Section 551(b) of the Act contains the required contents of the EAPRP, including reporting protocols for air carrier customer service agents who have been the victim of a verbal or physical assault.

On May 16, 2024, Congress enacted Public Law 118-63. In the 2024 reauthorization act, section 434, reiterates the requirement for air carriers operating under part 121 to submit an Employee Assault Prevention and Response Plan pursuant to 2018 reauthorization act, section 551. Section 434 of the FAA Reauthorization Act of 2024 reiterates congressional support for these requirements and adds a requirement for the FAA to brief Congress on submitted plans, but does not create new reporting or recordkeeping obligations for air carriers.

Respondents: Part 121 Air Carriers of Title 14 CFR.

Frequency: Once for a new submission or revision of plan.

Estimated Average Burden per Response: 20 hours for a new plan, 2 hours for a revision.

Estimated Total Annual Burden: $3,868.

Issued in Washington, DC, on January 27, 2026.
Sandra L. Ray,
Aviation Safety Inspector, AFS-900.

[FR Doc. 2026-01775 Filed 1-28-26; 8:45 am]

BILLING CODE 4910-13-P